DEPARTMENT OF ENERGY

Federal Energy Regulatory Commission

[Docket No. EL00-65-000]

Connecticut Municipal Electric Energy Cooperative v. Connecticut Yankee Atomic Power Company and Connecticut Light and Power Company; Notice of Complaint

April 10, 2000.

Take notice that on April 7, 2000, the Connecticut Municipal Electric Energy Cooperative (CMEEC) filed a complaint against Connecticut Yankee Atomic Power Company (CY) and Connecticut Light & Power Company (CL&P). The complaint asserts that CY operated its nuclear generating plant imprudently before prematurely retiring it in December 1996, and that CY and CL&P have charged CMEEC through their formula rates approximately $2.2 million (from 1995 through 1998) for costs attributable to CY's imprudence or improper formula-rate collections of decommissioning costs. The Complaint requests that the Commission summarily find CY imprudent or, in the alternative, find that CMEEC has made a prima facie showing of imprudence and require CY to show affirmatively that it was prudent. The Complaint further requests that the Commission begin an investigation to identify the costs that CY and CL&P have improperly charged CMEEC through their formula rates and order them to refund such amounts.

Any person desiring to be heard or to protest this filing should file a motion to intervene or protest with the Federal Energy Regulatory Commission, 888 First Street, NE, Washington, DC 20426, in accordance with Rules 211 and 214 of the Commission's Rules of Practice and Procedure (18 CFR 385.211 and 385.214). All such motions or protests must be filed on or before April 27, 2000. Protests will be considered by the Commission in determining the appropriate action to be taken, but will not serve to make protestants parties to the proceeding. Any person wishing to become a party must file a motion to intervene. Copies of this filing are on file with the Commission and are available for public inspection in the Public Reference Room. This filing may also be viewed on the Internet a http://www.ferc.fed.us/online/rims.htm (call 202-208-2222) for assistance. Answers to the complaint shall also be due on or before April 27, 2000.

David P. Boergers,
Secretary.

[FR Doc. 00-9314 Filed 4-13-00; 8:45 am]

BILLING CODE 6717-01-M